OFFICE OF THE UNITED STATES TRADE REPRESENTATIVE

[Docket No. WTO/D-175]

WTO Dispute Settlement Proceeding Regarding Indian Measures Affecting Trade and Investment in the Motor Vehicle Sector

AGENCY: Office of the United States Trade Representative.

ACTION: Notice; request for comments.

SUMMARY: The Office of the United States Trade Representative (“USTR” is providing notice of the request for the establishment of a dispute settlement panel under the Marrakesh Agreement Establishing the World Trade Organization (“WTO”), by the United States, to examine Public Notice No. 60 ((PN)/97-02) of the Indian Ministry of Commerce, published in the Gazette of India Extraordinary, effective 12 December 1997 (“Public Notice 60”); the Foreign Trade (Development and Regulation) Act 1992; the Export and Import Policy, 1997-2002; memoranda of understanding signed by the Government of India with manufacturing firms in the motor vehicle sector pursuant to Public Notice No. 60; and certain related Indian legislative and administrative measures. In this dispute, the United States alleges that these measures are inconsistent with the obligations of India under Articles III:4 and XI:1 of the General Agreement on Tariffs and Trade 1994 (GATT 1994) and Articles 2.1 and 2.2 of the Agreement on Trade-Related Investment Measures. The USTR invites written comments from the public concerning the issues raised in this dispute.

DATES: Although the USTR will accept any comments received during the course of the dispute settlement proceedings, comments should be submitted by July 28, 2000, to be assured of timely consideration by the USTR in preparing its first written submission to the panel.

ADDRESSES: Submit comments to Sandy McKinzy, Monitoring and Enforcement Unit, Office of the General Counsel, Room 122, Office of the United States Trade Representative, 600 17th Street, NW, Washington, DC, 20508, Attn: India Motor Vehicle Dispute. Telephone: (202) 395-3582.

FOR FURTHER INFORMATION CONTACT: Steven F. Fabry, Associate General Counsel, telephone: (202) 395-3582; Christopher Rosettie, Director for Multilateral Services and Investment Affairs, telephone: (202) 395-7271; or Joseph Damond, telephone: (202) 395-6813.

SUPPLEMENTARY INFORMATION: Pursuant to section 127(b) of the Uruguay Round Agreements Act (URAA) (19 U.S.C. 3537(b)(1)), the USTR is providing notice that on May 15, 2000, the United States submitted a request for the establishment of a WTO dispute settlement panel to examine the United States' claim that certain Indian measures affecting trade and investment in the motor vehicle sector are inconsistent with India's obligations under the GATT 1994 and the Agreement on Trade-Related Investment Measures. The WTO Dispute Settlement Body is likely to establish a dispute settlement panel no later than the end of July, 2000. Under normal circumstances, the panel, which will hold its meetings in Geneva, Switzerland, would be expected to issue a report detailing its findings and recommendations within six to nine months after it is established.

Major Issues Raised and Legal Basis of the Complaint

The United States claims that Public Notice 60; the Foreign Trade (Development and Regulation) Act 1992; the Export and Import Policy, 1997-2002; memoranda of understanding signed by the Government of India with manufacturing firms in the motor vehicle sector pursuant to Public Notice No. 60; and certain related Indian legislative and administrative measures are inconsistent with India's obligations under the WTO Agreement. The foregoing measures require manufacturing firms in the motor vehicle sector to achieve specified levels of purchase or use of domestic content; to achieve a neutralization of foreign exchange and to balance the value of certain imports with the value of exports of cars and components over a stated period; and to limit imports to a value based on previous exports. These requirements are enforceable under Indian law and rulings, and manufacturing firms in the motor vehicle sector must comply with these requirements in order to obtain certain Indian import licenses. The United States claims that the Indian measures in question are therefore inconsistent with India's obligations under Article III:4 and XI:1 of the GATT 1994 and Articles 2.1 and 2.2 of the Agreement on Trade-Related Investment Measures.

Public Comment: Requirements for Submissions

Interested persons are invited to submit written comments concerning the issues raised in this dispute. Comments must be in English and provided in fifteen copies to Sandy McKinzy at the address provided above. A person requesting that information contained in a comment submitted by that person be treated as confidential business information must certify that such information is business confidential and would not customarily be released to the public by the submitting person. Confidential business information must be clearly marked “BUSINESS CONFIDENTIAL'' in a contrasting color ink at the top of each page of each copy.

Information or advice contained in a comment submitted, other than business confidential information, may be determined by the USTR to be confidential in accordance with section 135(g)(2) of the Trade Act of 1974 (19 U.S.C. 2155(g)(2)). If the submitting person believes that information or advice may qualify as such, the submitting person—

(1) Must so designate the information or advice;

(2) Must clearly mark the material as “SUBMITTED IN CONFIDENCE'' in a contrasting color ink at the top of each page of each copy; and

(3) Is encouraged to provide a non-confidential summary of the information or advice.

Pursuant to section 127(e) of the URAA (19 U.S.C. 3537)e)), the USTR will maintain a file on this dispute settlement proceeding, accessible to the public, in the USTR Reading Room: Room 101, Office of the United States Trade Representative, 600 17th Street, NW, Washington, DC 20508. The public file will include a listing of any comments received by the USTR from the public with respect to the proceeding; the U.S. submissions to the panel in the proceeding, the submissions, or non-confidential summaries of submissions, to the panel received from other parties in the dispute, as well as the report of the dispute settlement panel, and, if applicable, the report of the Appellate Body. An appointment to review the public file (Docket WTO/D-175, India Motor Vehicle Dispute) may be made by calling Brenda Webb, (202) 395-6186. The USTR Reading Room is open to the public from 9:30 a.m. to 12 noon and 1 p.m. to 4 p.m., Monday through Friday.

A. Jane Bradley,
Assistant United States Trade Representative.

[FR Doc. 00-15138 Filed 6-14-00; 8:45 am]

BILLING CODE 3190-01-M